DEPARTMENT OF HOMELAND SECURITY

Bureau of Customs and Border Protection

DEPARTMENT OF THE TREASURY

19 CFR Parts 12 and 163

[CBP Dec. 09-36]

RIN 1505-AC14

Entry of Certain Cement Products From Mexico Requiring a Commerce Department Import License

AGENCIES: Customs and Border Protection, Department of Homeland Security; Department of the Treasury.

ACTION: Final rule.

SUMMARY: This document amends title 19 of the Code of Federal Regulations (19 CFR) by removing regulations originally promulgated to provide special entry requirements for certain cement products from Mexico requiring a United States Department of Commerce import license and to include certain required entry documentation in the “List of Records Required for the Entry of Merchandise” set forth in the Appendix to Part 163 of title 19 of the Code of Federal Regulations. Since the underlying trade agreement that necessitated these regulations expired on March 31, 2009, they are no longer necessary and are obsolete.

DATES: The amendment is effective September 25, 2009.

FOR FURTHER INFORMATION CONTACT: Christine Furgason, Acting Director, AD/CVD and Revenue Policy & Programs, Customs and Border Protection, 1400 L Street, NW., Washington, DC 20229, Tel (202) 863-6081.

SUPPLEMENTARY INFORMATION:

Background

On March 6, 2006, the Office of the United States Trade Representative (USTR), the United States Department of Commerce (Commerce), and the Ministry of Economy of the United Mexican States (Secretaria de Economia) signed a bilateral Trade in Cement Agreement (Agreement) concerning the entry of certain cement products from Mexico into the United States. The Agreement required the creation of an Export Licensing Program by Mexico and an Import Licensing Program by Commerce to enforce certain quantitative restrictions contained in the Agreement. The Agreement included a provision for its termination on March 31, 2009. A copy of the Agreement is available on the Commerce Web site: http://www.ia.ita.doc.gov/download/mexico-cement/cement-final-agreement.pdf.

To implement the Agreement, the International Trade Administration of the Department of Commerce (ITA) published a final rule in the Federal Register (72 FR 10006) on March 6, 2007, prescribing the cement licensing and import monitoring program regulations promulgated at 19 CFR 361.101-361.105.

On March 6, 2007, Customs and Border Protection (CBP) published a corollary final rule in the Federal Register (72 FR 10004) that promulgated special requirements for the entry into the U.S. of certain cement products from Mexico requiring a U.S. Department of Commerce import license, at new 19 CFR 12.155. The “List of Records Required for the Entry of Merchandise” set forth in the Appendix to Part 163 was also amended by that document to reflect the entry document requirements mandated by the Agreement.

As the Agreement expired on March 31, 2009, § 12.155 and the references to Mexican Cement export and import licenses in the Appendix to Part 163 are now unnecessary and obsolete, and, accordingly they are removed from the regulations.

Inapplicability of Prior Public Notice and Comment Procedures and Delayed Effective Date

Because this amendment merely removes obsolete regulations from title 19 of the CFR, CBP has determined, pursuant to the provisions of 5 U.S.C. 553(b)(B), that prior public notice and comment procedures on this regulation are unnecessary and contrary to public interest. For the same reason, pursuant to the provisions of 5 U.S.C. 553(d)(3), there is good cause for dispensing with a delayed effective date.

The Regulatory Flexibility Act

This document is not subject to the notice and public procedure requirements of 5 U.S.C. 553, and thus is not subject to the provisions of the Regulatory Flexibility Act (5 U.S.C. 601 et seq.).

Executive Order 12866

These amendments do not meet the criteria for a “significant regulatory action” as specified in Executive Order 12866.

Signing Authority

This document is being issued in accordance with 19 CFR 0.1(a)(1).

List of Subjects

19 CFR Part 12

Customs duties and inspection, Entry of merchandise, Imports, Licensing, Mexico, Reporting and recordkeeping requirements, Trade agreements.

19 CFR Part 163

Administrative practice and procedure, Customs duties and inspection, Exports, Imports, Reporting and recordkeeping requirements.

Amendment to the Regulations

For the reasons stated above, parts 12 and 163 of title 19 of the Code of Federal Regulations (19 CFR parts 12 and 163) are amended as set forth below.

PART 12—SPECIAL CLASSES OF MERCHANDISE

1. The general authority citation for part 12 continues to read as follows:

Authority: 5 U.S.C. 301; 19 U.S.C. 66, 1202 (General Note 3(i), Harmonized Tariff Schedule of the United States (HTSUS)), 1624;

* * * * *

§ 12.155 [Removed]

2. The undesignated center heading entitled “Mexican Cement Products” and § 12.155 are removed.

PART 163—RECORDKEEPING

3. The authority citation for part 163 continues to read as follows:

Authority: 5 U.S.C. 301; 19 U.S.C. 66, 1484, 1508, 1509, 1510, 1624.

Appendix to Part 163 [Amended]

4. In the Appendix to Part 163, the listing for § 12.155 under section IV is removed.

Jayson P. Ahern,
Acting Commissioner, Customs and Border Protection.
Approved: September 21, 2009.
Timothy E. Skud,
Deputy Assistant Secretary of the Treasury.

[FR Doc. E9-23157 Filed 9-24-09; 8:45 am]

BILLING CODE P